ENVIRONMENTAL PROTECTION AGENCY

[EPA-HQ-OPP-2002-0262; FRL-8411-1]

EPA Impact Assessments on Endosulfan; Request for Comments and Additional Information on Importance of Use

AGENCY: Environmental Protection Agency (EPA).

ACTION: Notice.

SUMMARY: This notice requests public comment on the Agency's endosulfan impact assessments for eight crops (potato, tomato, cotton, apple, cucumber, squash, pumpkin and melons) and additional information on the importance of endosulfan use in agriculture.

DATES: Comments must be received on or before July 6, 2009.

ADDRESSES: Submit your comments, identified by docket identification (ID) number EPA-HQ-OPP-2002-0262, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments on the Agency's impact assessments and importance of endosulfan use to docket ID number EPA-HQ-OPP-2002-0262. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Melanie Biscoe, Special Review and Reregistration Division (7508P), Office of Pesticide Programs, Environmental Protection Agency, 1200 Pennsylvania Ave., NW., Washington, DC 20460-0001; telephone number: (703) 305-7106; fax number: (703) 308-8090; e-mail address: biscoe.melanie@epa.gov.

SUPPLEMENTARY INFORMATION:

I. General Information

A. Does This Action Apply to Me?

This action is directed to the public in general, and may be of interest to a wide range of stakeholders including: environmental, human health, and agricultural advocates; the chemical industry, pesticide users, and members of the public interested in the sale, distribution, or the use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action Is the Agency Taking?

The Agency has recently completed impact assessments on endosulfan for the following eight crops: Apple, cotton, cucumber, melon, potato, pumpkin, squash, and tomato.

The impact assessments evaluate the impacts on growers that could result from various risk management options, such as cancellation of uses and longer Restricted Entry Intervals (REIs). All stakeholders are encouraged to comment on these assessments, submit additional information for the Agency to consider, and provide data with which the Agency can better define the likely impacts. The impact assessments are available in the electronic docket at http://www.regulations.gov under docket ID number EPA-HQ-OPP-2002-0262.

The Agency chose to assess apple, cotton, cucumber, melon, potato, pumpkin, squash, and tomato because they are crops for which endosulfan use is more prevalent (when compared to other crops on which endosulfan is used), and because the Agency received public comments on several of these crops in response to its 2007 usage analysis available at regulations.gov under docket ID number EPA-HQ-OPP-2002-0262-0063. With regard to the 2007 usage analysis, the Agency received and considered comments from various stakeholders concerning apple, cherry, cotton, peach, pear, potato, cucurbit, pepper, tomato, Christmas tree, macadamia nut, and pineapple uses of endosulfan. The Agency also received but did not consider comments from stakeholders regarding grape and green bean uses of endosulfan because these uses were cancelled as a result of the 2002 Reregistration Eligibility Decision (RED).

In addition to comments on the eight impact assessments, the Agency requests that stakeholders provide any additional information they may have on the importance of endosulfan use in agriculture. In particular, since publishing the 2007 usage analysis, the Agency has not received any comments suggesting that use of endosulfan is important for the following crops:

• Almond,

• Apricot,

• Blueberry,

• Broccoli,

• Brussels spouts,

• Cabbage,

• Carrots,

• Cauliflower,

• Celery,

• Citrus (nonbearing trees and nursery stock),

• Collard greens,

• Crops grown for seed (alfalfa, cabbage, collard greens, cucumber, kale, kohlrabi, melons, pumpkin, radish, rutabaga, squash, turnip),

• Dry beans,

• Dry peas,

• Eggplant,

• Filbert,

• Kale,

• Lettuce,

• Mustard greens,

• Nectarine,

• Ornamental trees, Shrubs, and Woody plants,

• Plum and Prune,

• Sweet corn,

• Sweet potato,

• Strawberry,

• Tobacco,

• Turnip, and

• Walnut.

When commenting on the eight impact assessments and the importance of endosulfan use on the crops listed above, stakeholders may want to consider the following questions:

1. What additional usage information is available to supplement the 2007 and 2009 analyses?

2. What effect would extended REIs or other risk management measures have on the ability of growers to perform necessary post-application activities?

3. For what crops and against what pests is the use of endosulfan critical, and why?

4. Are there any local or niche uses of endosulfan that are critical, and why?

5. What alternatives are available for control of the pests targeted by endosulfan?

In the April 29, 2009 issue of the Federal Register, the Agency published a separate Notice to solicit comments on petitions from the National Resources Defense Council and the Pesticide Action Network North America requesting that EPA cancel all uses of endosulfan. Please see docket ID number EPA-HQ-OPP-2008-0615 (FRL-8410-2) in regulations.gov to access the petitions and related documents, as well as to submit comments on the petitioners' requests to cancel all uses of endosulfan.

The Agency asks that comments on the Agency's eight impact assessments and any additional information on the importance of endosulfan use in agriculture be submitted to docket number EPA-HQ-OPP-2002-0262 within 60 days.

B. What Is the Agency's Authority for Taking This Action?

This action is taken under authority of FFDCA section 408(d)(3), 21 U.S.C. 346a(d)(3).

List of Subjects

Environmental protection, Pesticides, and pests.

Dated: April 13, 2009.
Richard P. Keigwin, Jr.,
Director, Special Review and Reregistration Division, Office of Pesticide Programs.

[FR Doc. E9-10149 Filed 5-5-09; 8:45 am]

BILLING CODE 6560-50-S